DEPARTMENT OF AGRICULTURE

Agricultural Marketing Service

[Docket No. AMS-TM-14-14-0029; TM-14-02]

Farmers' Market and Local Food Promotion Program: Notice of Emergency Approval of New Information Collection for Local Food Promotion Program

AGENCY: Agricultural Marketing Service, USDA.

ACTION: Notice and request for comments.

SUMMARY: In accordance with the Paperwork Reduction Act of 1995 (44 U.S.C. Chapter 35), this notice announces the Agricultural Marketing Service's (AMS) intention to request emergency approval from the Office of Management and Budget (OMB) for a new collection under the Farmers' Market and Local Food Promotion Program. The Farmers' Market and Local Food Promotion Program, includes two AMS competitive grant programs: Farmers' Market Promotion Program (FMPP) and Local Food Promotion Program (LFPP). This new collection establishes forms and documentation under the Local Food Promotion Program.

DATES: Comments received by May 19, 2014 will be considered.

Additional Information: Contact James Barham, Marketing Services Division, Transportation and Marketing Program, Agricultural Marketing Service (AMS), USDA; 202/720-8317.

ADDRESSES: Contact James Barham, Marketing Services Division, Transportation and Marketing Program, AMS, USDA, 1400 Independence Avenue SW., Room 4509-South Building, Washington, DC 20250; 202/720-8317, or fax 202/690-0031.

Comments should AMS-TM-14-0029, TM-14-02 and be sent to James Barham at the above address or via the Internet at http://www.regulations.gov.

SUPPLEMENTARY INFORMATION: Title: Local Food Promotion Program

OMB Number: 0581-NEW.

Expiration Date of Approval: 6 months from publication request.

Type of Request: Emergency request for a new collection.

Abstract: The Farmers Market Promotion Program (FMPP) was initially created by amending the Farmer-to-Consumer Direct Marketing Act of 1976 (7 U.S.C. 3001-3006) through the Farm Security and Rural Investment Act of 2002 (7 U.S.C. 3005) (2002 Farm Bill). It was reauthorized, amended, and funded by the Food, Conservation, and Energy Act of 2008 (7 U.S.C. 3005) (2008 Farm Bill). Under the recent passage of the Agriculture Act of 2014 (Public Law 113-79) (2014 Farm Bill), FMPP has been reauthorized, funded, expanded, and renamed as the “Farmers' Market and Local Food Promotion Program.” As a result, AMS will manage two grant programs. The grant programs will be entitled “Farmers Market Promotion Program (FMPP),” and “Local Food Promotion Program (LFPP).”

The 2014 Farm Bill makes seven (7) additional changes under the “Farmers' Market and Local Food Promotion Program”:

1. There is a new emphasis on the development and expansion of local and regional food business enterprises (not including farmer-to-consumer direct marketing entities). Under the 2008 Farm Bill, authority was only provided to support farmer-to-consumer direct marketing activities. The 2014 Farm Bill establishes a more holistic approach for strengthening the local and regional food distribution system and essentially establishes two separate functions under this grant program: Fund direct marketing projects through FMPP grants, and fund local and regional food business enterprise projects through LFPP grants.

2. The purposes of the program are expanded by including such activities as “. . . providing outreach, training, and technical assistance to, or assisting in the development, improvement and expansion of” . . . “local and regional food business enterprises . . . that process, distribute, aggregate, or store locally or regionally produced food products.”

3. The eligibility of applicants is expanded. New language expands an agricultural cooperative to “an agricultural cooperative or other agriculture business entity (including a community supported agriculture network or association).”

4. A 25 percent “cash or in kind” match has been introduced for projects that will be submitted under the local and regional food business enterprise component of the Program. No match is required under FMPP grant program.

5. New priorities for annual awards have been established. Priority is to be given to “projects that benefit underserved communities, including communities that (1) are located in areas of concentrated poverty with limited access to fresh locally or regionally grown foods; and (2) have not received benefits from the Program in the recent past.”

6. The requirement to provide not less than 10 percent of the funds used to carry out projects that support the use of electronic benefits transfers for Federal nutrition programs at farmers' markets has been eliminated.

7. There is a new funding level of $30 million per fiscal year (2014 through 2018), or approximately $15 million per year (includes administrative costs) for each of the FMPP and LFPP grant programs.

The grants authorized under the LFPP are purposed to increase domestic consumption of agricultural products and to develop market opportunities for farm and ranch operations serving local markets, by developing, improving, expanding, and providing outreach, training, and technical assistance to, or assisting in the development, improvement and expansion of local and regional food business enterprises (including those that are not direct producer-to-consumer markets) that process, distribute, aggregate, and store locally or regionally produced food products.

Two types of applications will be accepted under LFPP. The first type of application will be for planning grants and the second type of application will be for implementation grants. Applicants can apply for either but will receive one grant in the same grant cycle.

The following are LFPP forms and information required during the LFPP application submission, application review, and post-award processes:

Pre-Award

1. “Registration with the System for Awards Management (SAM)”—mandatory for applicants and reviewers.

2. “LFPP Announcement and Guidelines”—mandatory for applicants.

3. Form SF-424, “Application for Federal Assistance”—mandatory for applicants.

4. Form SF-424B, “Assurances—Non-Construction Programs,”—mandatory for applicants.

5. “LFPP Grant Narrative”—mandatory for applicants.

6. “LFPP Project Budget and Match Request”—mandatory for applicants.

7. “Written Proof of Eligibility”—mandatory for applicants.

8. “LFPP Verification Letter(s) of Matching Funds”—mandatory for applicants.

Application Review

9. “LFPP Grant Reviewer Qualifications”—mandatory for reviewers.

10. Form “AMS-34, AMS Conflict-Of-Interest and Confidentiality Statement For Grant Reviewers”—mandatory for reviewers.

Post-Award

11. “LFPP Grant Program, General Terms and Conditions”—mandatory for awardees.

12. Grant Agreement—Form AMS-33, “United States Department of Agriculture, Agricultural Marketing Service, Agreement Face Sheet”—mandatory for awardees.

13. Form SF-270, “Request for Advance and Reimbursement”—mandatory for awardees.

14. “LFPP Interim Performance Reports”—mandatory for awardees.

15. “LFPP Final Performance Report”—mandatory for awardees.

16. Form SF-425, “Federal Financial Report” and “Final Federal Financial Report”—mandatory for awardees.

17. “Grant Recordkeeping”—mandatory for awardees.

Additional Detail on the Above LFPP Forms

Pre-Award

1. “Registration with the System of Award Management”—The System of Award Management (SAM) is the primary registrant database for the U.S. Federal Government. The SAM.gov system is a combination of federal procurement systems and the Catalog of Federal Domestic Assistance, and includes the Central Contractor Registration. The SAM.gov system collects, validates, stores, and disseminates data in support of agency acquisition missions, including Federal agency contracts, grants, cooperative agreements, and other forms of Federal assistance and assistance awards. Whether applying for assistance awards, contracts, grants, or other business opportunities, all entities are considered “registrants.”

All eligible entities applying for assistance awards from the Federal government via Grants.gov, and (application) reviewers receiving a stipend under LFPP, are required to register with SAM.gov in order to be awarded or receive funds by the Federal government.

The type of information requested by SAM.gov includes, but is not limited to:

a. General information, including organization DUNS number, Federal Tax Identification Number (TIN), location, employee numbers, and Web site address.

b. Corporate Information, including organization or business type and SBA-defined socioeconomic characteristics.

c. Financial Information, including financial institution, American Banking Association (ABA) routing number, account number, remittance address, lock box number, automated clearing house (ACH) information, and credit card information.

d. Point of Contact Information, including the primary and alternate points of contact and the electronic business, past performance, and government points of contact.

Registrants are required to complete the annual SAM.gov registration to provide information relevant to procurement and financial transactions. SAM.gov shares the data received from registrants with the Federal government. AMS uses this information in establishing its electronic (direct deposit) payment system. Note that the SAM.gov registration does not guarantee business with the AMS/LFPP or any other Federal government agency.

2. “LFPP Announcement and Program Guidelines”—AMS will publish an announcement and guidance documentation which contains information regarding how to complete a grant application package, along with a public notice of funds. The LFPP Announcement and Program Guidelines will be revised annually, or as needed, and posted with the application announcement at www.Grants.gov and on the AMS Web site at www.ams.usda.gov/LFPP. While this document is not signed, applicants must read and utilize this document to prepare their application, review which items are allowable, and understand the terms and conditions of the grant award. This form is currently being developed. As such, this information collection includes a document similar in content, “2012 FMPP Guidelines,” to serve as an example of the announcement and program guidelines.

3. Form SF-424, “Application for Federal Assistance,” (approved under OMB collection number 4040-0004) is required by all entities seeking Federal assistance.

4. Form SF-424B, “Assurances—Non-Construction Programs,” (approved under OMB collection number 0348-0040) must be completed by applicants to assure the Federal government of the applicant's legal authority to apply for Federal assistance.

5. LFPP Grant Narrative. Completed applications must include a project narrative. The submitted narrative must not exceed 12 typed single-spaced 8″ × 11″ pages and include the following information:

a. Project Title. Must capture the primary focus of the project and match the title provided on the SF-424.

b. Applicant/Organization Information. The applicant/organization name, contact name, mailing address, telephone and fax number, and the email address(es) for the person(s) designated to answer questions about the application, financial information, and the proposed project budget.

c. Primary Project Manager Information. The name, mailing address, telephone and fax number, and email address for the person(s) responsible for managing and/or overseeing the project.

d. Grant Application Type. The type of application being submitted to LFPP; “Planning Grant” or “Implementation Grant.”

e. Requested LFPP Funding and Matching Funds. The dollar amount requested from LFPP, and the amount of the matching funds.

f. Entity Type and Eligibility Statement. The entity type, statement of qualification as an eligible entity, and any required documentation of eligibility.

g. Priority Project Selection. Indication of LFPP Priority, i.e., whether or not the proposal serves or is being implemented in an area of concentrated poverty with limited access to fresh locally or regionally grown foods.

h. Executive Summary. The proposal summary provides the project description, goals to be accomplished, expected outcomes, and the timeframe for completion.

i. Background Statement. A description of the current conditions that justify the need of the project, and an explanation of why the condition will not be improved absent the project so that the need will remain unmet.

j. Work Plan, Resources, and Timeline Requirements. A list of each planned activity, a timeline for completion, resources needed, and milestones for assessing progress for each activity.

k. Expected Outcomes and Intended Beneficiaries. List of outcomes of the project and the intended beneficiaries of each outcome. Describe the method of quantifying the outcomes and demonstrate impact of the project.

l. Budget Justification. After preparing the budget using the “LFPP Project Budget and Match Request” form, provide a written justification to explain how the items requested are reasonable and support the project's purpose and goals.

m. Project Planning or Implementation Areas. Information about the location(s) of the priority project(s), including the street address, city, state, zip code, and maps.

Given that this program will be established for the first time, AMS may review and revise the form annually.

6. LFPP Project Budget and Match and Budget Request. Each applicant must provide line-item details about the requested funds and required 25 percent match. Each budget request and match must:

a. List each under the following categories: Personnel, Contractors, Travel, Equipment ($5,000 or more per unit), Supplies (includes equipment less than $5,000), Other, and Indirect Costs.

b. Be itemized, listing separately each item, its costs, and use.

c. Correlate to the purpose/goals of the project and demonstrate that the budget is reasonable and adequate for the proposed work.

d. Be substantiated in a written budget justification.

AMS may review and revise the form annually. For complete information on how to complete the LFPP budget spreadsheet, refer to the LFPP Announcement and Program Guidelines by visiting http://www.ams.usda.gov/LFPP.

7. “Written Proof of Eligibility”—In addition to an explanation in the narrative of how the applicant/organization qualifies as an eligible entity, written proof must also be provided in the application package. This documentation may include, for example for a nonprofit, a copy of the organization's letter of determination from the State or Internal Revenue Service indicating the date of incorporation as a nonprofit.

8. “LFPP Verification Letter(s) of Matching Funds”—Completed applications must include written verification of commitment from each third party who will contribute cash and/or in-kind matching non-Federal resources to the project.

Application Review

AMS requests potential grant reviewers to read and complete the following form:

9. “LFPP Grant Reviewer Qualifications”—AMS utilizes this mandatory form for reviewers to complete and submit their personal or work qualifications and resume. Reviewers must have a general knowledge of local and regional food enterprises that includes, but is not limited to, the financing, establishing, and operational aspects of businesses enterprises that process, distribute, aggregate, and/or store locally or regionally produced food products. Reviewers will apply their knowledge and expertise in these areas to objectively assess applications and provide both a numeric score and written comments for each application.

The form contains a checklist for potential reviewers to identify their employment and voluntary work experience. Boxes are provided for potential reviewers to indicate (a) their area of experience or expertise and (b) whether the person is a current or retired nonprofit, for-profit, or Federal/State government employee. The form is not signed, but submitted via email along with a copy of their resume.

AMS will review and may revise the form annually. AMS may also request additional information or clarification from potential reviewers. The reviewer qualifications are used to determine whether a reviewer is qualified to serve as part of the grant review process.

AMS also requires anyone serving as a grant reviewer to comply with and sign the following:

10. “AMS-34, AMS Conflict-Of-Interest and Confidentiality Statement For Grant Reviewers”—This mandatory form for reviewers to sign indicates compliance with the conflict of interest and confidentiality requirements. Regarding confidentiality, reviewers must agree not to copy, quote, or otherwise use or disclose to anyone, any information from any application. Reviewers must also agree with the conflict of interest requirements, which include that the reviewer does not have: (a) A direct financial interest in the review outcome; or have direct and predictable financial interests in the outcome; (b) indirect interests with the organization or personnel submitting an application under LFPP; or (c) any relationship, such as a close personnel friendship, that may affect the reviewers' judgment or be seen as doing so by a reasonable person familiar with the relationship.

Peer reviewers will not be eligible to serve as a reviewer if they are (a) employed by, volunteer for, or serve as a board member or other type of committee/team member for an organization that submitted an application that same year under LFPP; or (b) a proposed subcontractor or financial beneficiary in a budget from any organization submitting an application that same year under LFPP.

Post-Award

Before grant funds are dispersed, applicants that are selected (awardees) must comply with the terms and conditions of the grant and sign the grant agreement. The terms and conditions are provided under form:

11. “LFPP Grant Program, General Terms and Conditions”—This is a mandatory form for awardees indicating compliance with terms and conditions of the award and all Federal grant regulations and administrative requirements including 7 CFR parts 3015, 3016, 3018, 3019; and FAR 31.2. The document also includes awardee assurances and certifications with the incoming application submission; changes in project contacts, leaders, managers, and staff; cost principles; actions that need prior approval; performance monitoring; reporting requirements; and payment requirements.

The LFPP Grant Program General Terms and Conditions may be updated annually to reflect mandatory additions and other changes made by regulatory or Office of Management and Budget grant requirements. This document, which is currently being developed, does not require a signature. As such, this information collection includes a similar document, “FMPP General Terms and Conditions,” to serve as an example.

12. Grant Agreement—Form AMS-33, United States Department of Agriculture, Agricultural Marketing Service, Agreement Face Sheet.” The grant agreement includes a mandatory form for awardees to sign indicating compliance with the terms and conditions of the grant award, project work approved, and receipt of grant funding. The sheet includes the grant authority; funding dollar amount; awardee and Federal contact names, address, email addresses, and phone and fax numbers; agreement number; project title, objectives, and statement of work; project work beginning and ending dates; and awardee and AMS Transportation and Marketing Program's Deputy Administrator's signatures. Two (2) copies of this agreement are required with the awardee's and the AMS Transportation and Marketing Program's Deputy Administrator's office signatures and dated for each grant.

The grant agreement face sheet includes a document which outlines the award terms and conditions. By signing the agreement face sheet, applicants agree to adhere to the term and conditions of the grant award.

13. Form SF-270, “Request for Advance and Reimbursement” (approved under OMB collection number 4040-0012) is required whenever the awardees request an advance or reimbursement of Federal grant funds. AMS expects that at least two (2) SF-270 forms will be submitted during the grant agreement period.

14. Interim Performance Reports. The Interim Performance Report is written documentation required to notify AMS about the work activities and progress towards completing the awardee's established project work plan goals, objectives, and timelines. AMS requires that the Interim Performance Report be submitted at the mid-point of the grant agreement period.

15. Final Performance Report. The Final Performance Report is a written description of the fulfillment of the project terms required by AMS within 90 days after the ending date of the grant agreement. This information is utilized as final documentation of completion of the work plan goals, objectives, and activities. Details of this report are provided on the AMS Web site at http://www.ams.usda.gov/LFPP.

16. Form SF-425, Federal Financial Report currently approved under OMB collection number 0348-0061 is required by AMS with each payment request. AMS expects that a minimum of two (2) or a maximum of seven (7) Federal Financial Reports will be submitted depending on the duration of the grant agreement period. Additionally, a final “Federal Financial Report” is to be completed once by the awardee(s) 90 days after the expiration date of the grant period.

17. Grant Recordkeeping. AMS requires that grant recipients maintain all records pertaining to the grant for a period of 3 years after the final status report has been submitted to AMS, in accordance with Federal recordkeeping regulations. This requirement is provided in 7 CFR § 3015.21 and 3015.22 and the LFPP General Terms and Conditions, which are published at the AMS Web site at www.ams.usda.gov/LFPP.

The 2014 Farm Bill authorizes funding for grants under LFPP, allocating mandatory funds from the Commodity Credit Corporation, with $15 million for each year from 2014 through 2018.

Estimate of Burden: Public reporting burden for this collection of information is estimated to average 4.62 hours per response.

Respondents: Agricultural Cooperatives, Agriculture Business Entities; Community Supported Agriculture Networks or Associations; Producer Networks or Associations; Local and Tribal Governments; Nonprofit Corporations; Public Benefit Corporations; Economic Development Corporations; and Regional Farmers' Market Authorities.

Estimated annual number of respondents: 1,500.

Estimated annual number of responses per respondent: 7.10.

Estimated annual number of responses: 10,650.

Estimated total annual burden on the respondents: 49,200 hours.

Comments are invited on: (1) Whether the collection of information is necessary for the proper performance of the functions of the agency, including whether this information will have practical utility; (2) the accuracy of the agency's estimate of the burden of this collection of information including the validity of the methodology and assumptions used; (3) ways to enhance the quality, utility, and clarity of the information to be collected; and (4) ways to minimize the burden of the collection of information on those who are to respond, including the use of appropriate automated, electronic, mechanical, or other technological collection techniques or other forms of information technology.

All comments received by AMS will be available for public inspection during regular business hours, 8 a.m. to 4:30 p.m. Eastern Time, Monday through Friday, at the same address; and can be viewed via the Internet at http://www.regulations.gov. All responses to this notice will be summarized and included in the request for OMB approval. All comments will become a matter of public record.

Dated: March 11, 2014.
Rex A. Barnes,
Associate Administrator, Agricultural Marketing Service.

[FR Doc. 2014-06099 Filed 3-19-14; 8:45 am]

BILLING CODE 3410-02-P